DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy.

U.S. Patent No. 5,742,121: Thin-Film Edge Field Emitter Device and Method of Manufacture Therefore, Navy Case No. 77,175.//U.S. Patent No. 6,084,245: Field Emitter Cell and Array with Vertical Thin-Film-Edge Emitter, Navy Case No. 79,020.//U.S. Patent No. 6,168,491: Method of Forming Field Emitter Cell and Array with Vertical Thin-Film-Edge Emitter, Navy Case No. 79,930.//U.S. Patent No. 6,333,598: Low Gate Current Field Emitter Cell and Array with Vertical Thin-Film-Edge Emitter, Navy Case No. 79,853.//U.S. Patent No. 6,440,763: Methods for Manufacture of Self-Aligned Integrally Gated Nanofilament Field Emitter Cell and Array, Navy Case No. 83,058.//U.S. Patent No. 6,448,701: Self-Aligned Integrally Gated Nanofilament Field Emitter Cell and Array, Navy Case No. 82,309.//U.S. Patent Application Serial No. 10/012,612: Low Gate Current Field Emitter Cell and Array with Vertical Thin-Film-Edge Emitter, Navy Case No. 83,555.//U.S. Patent Application Serial No. 10/012,615: Low Gate Current Field Emitter Cell and Array with Vertical Thin-Film-Edge Emitter, Navy Case No. 83,556.//Navy Case No. 84,308: Novel Diols by Ringopening of Epoxics.//Navy Case No. 84,472: Novel Diols by Ringopening of Epoxics.

ADDRESSES: Requests for copies of the inventions cited should be directed to the Naval Research Laboratory, Code 1004, 4555 Overlook Avenue, SW., Washington, DC 20375-5320, and must include the Navy Case number.

FOR FURTHER INFORMATION CONTACT: Catherine M. Cotell, Ph.D., Head, Technology Transfer Office, NRL Code 1004, 4555 Overlook Avenue, SW., Washington, DC 20375-5320, telephone (202) 767-7230. Due to temporary U.S. Postal Service delays, please fax (202) 404-7920, e-mail: cotell@nrl.navy.mil or use courier delivery to expedite response.

(Authority: 35 U.S.C. 207, 37 CFR part 404)

Dated: April 28, 2003.
R.E. Vincent II,
Lieutenant Commander, Judge Advocate General's Corps, U.S. Navy, Federal Register Liaison Officer.

[FR Doc. 03-10849 Filed 5-1-03; 8:45 am]

BILLING CODE 3810-FF-P